DEPARTMENT OF HEALTH AND HUMAN SERVICES

Centers for Disease Control and Prevention

Disease, Disability, and Injury Prevention and Control Special Emphasis Panel (SEP): Initial Review

SUMMARY: In accordance with Section 10(a)(2) of the Federal Advisory Committee Act (Pub. L. 92-463), the Centers for Disease Control and Prevention (CDC) announces a meeting for the initial review of applications in response to Funding Opportunity Announcement (FOA), RFA-CE-15-002, The CDC National Center for Excellence in Youth Violence Prevention: Building the Evidence for Community- and Policy-Level Prevention.

DATES: 8:30 a.m.-5 p.m., EDT, June 29-30, 2015 (Closed).

ADDRESSES: The Georgian Terrace, 659 Peachtree Street NE., Atlanta, Georgia 30308. This meeting will also be held by teleconference.

FOR FURTHER INFORMATION CONTACT: M. Chris Langub, Ph.D., Scientific Review Officer, CDC, 4770 Buford Hwy. NE., Mailstop E63, Atlanta, Georgia 30341-3724, Telephone: 770-488-4334.

SUPPLEMENTARY INFORMATION:

Status: The meeting will be closed to the public in accordance with provisions set forth in Section 552b(c)(4) and (6), Title 5 U.S.C., and the Determination of the Director, Management Analysis and Services Office, CDC, pursuant to Public Law 92-463.

Matters for Discussion: The meeting will include the initial review, discussion, and evaluation of applications received in response to “The CDC National Center for Excellence in Youth Violence Prevention: Building the Evidence for Community- and Policy-Level Prevention” FOA Number: CE-15-002.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2015-13620 Filed 6-3-15; 8:45 am]

BILLING CODE 4163-18-P